NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by September 30, 2022. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Andrew Titmus, ACA Permit Officer, Office of Polar Programs, National Science Foundation, 2415 Eisenhower Avenue, Alexandria, VA 22314; 703-292-4479; or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (ACA 2021-004) to Grant Ballard on September 23, 2020. The issued permit allows the applicant to engage in take, harmful interference, enter Antarctic Specially Protected Areas (ASPAs), and import samples into the USA in association with research on the role of environmental factors on foraging, diet, growth, and survival of Adelie penguins (Pygoscelis adeliae). Research activities include installing weighbridges, resighting banded birds, and following birds through incubation and chick-rearing until late January. The applicant and agents attach logging and tracking devices on breeding adults and collect fecal samples from adults and chicks during the brooding and guarding stage, then attach long-term GPS-Argos tags and geolocating dive recorders on adult penguins. To survey the large colonies at Cape Royds and Cape Crozier in a timely manner, the applicant and agents employ multiple, self- and collectively-aware remotely piloted aircraft (RPAS) simultaneously. Now the applicant proposes a modification to the permit to collect blood samples (1-2 drops each) from penguins already undergoing other handling, sampling, or instrumentation. The applicant proposes to take up to 220 blood samples from fledglings, 120 blood samples from chicks, and 130 blood samples from adult Adelie penguins per year. The applicant proposes to take up to an additional 30 feather samples from fledglings, and 20 feather samples from adults per year over feather samples already permitted. The applicant proposes to take up to an additional 240 opportunistic or cloacal swab fecal samples per year. Additionally, the applicant proposes to tag up to 60 chicks per year with small T-bar anchor tags which will be removed at the end of the rearing season. The applicant also proposes to disturb up to 1000 penguins by surrounding a penguin subcolony with a plastic fence for the continuation of a long term weighbridge study to evaluate foraging trip duration, adult condition, and food delivery.

Location: ASPA 121, Cape Royds, Ross Island; ASPA 124, Cape Crozier, Ross Island; ASPA 105, Beaufort Island; Cape Bird (outside ASPA boundary).

Dates: November 1, 2022 to February 15, 2025.

Erika N. Davis,
Program Specialist, Office of Polar Programs.

[FR Doc. 2022-18770 Filed 8-30-22; 8:45 am]

BILLING CODE 7555-01-P